OFFICE OF THE FEDERAL REGISTER

Publication Procedures for Federal Register Documents During a Funding Hiatus

AGENCY: Office of the Federal Register.

ACTION: Notice of special procedures.

SUMMARY: During an appropriations lapse, the Office of the Federal Register (OFR) publishes documents that meet an exception under the Antideficiency Act (ADA). It is the responsibility of the agency submitting a document for publication during an appropriations lapse to provide an exception letter with the document that includes a justification and a certification that the document is authorized under an exception to the Antideficiency Act.

FOR FURTHER INFORMATION CONTACT: Liza Davis, Esq., Director of Legal Affairs and Policy, Office of the Federal Register, National Archives and Records Administration, (202) 741-6030 or Fedreg.legal@nara.gov.

SUPPLEMENTARY INFORMATION: In accordance with the provisions of the Antideficiency Act (ADA), Public Law 97-258, as amended (31 U.S.C. 1341, 1342), and Office of Legal Counsel (OLC) Opinions Government Operations in the Event of a Lapse in Appropriations (19 Op. O.L.C. 301, August 16, 1995), and Effect of Appropriations for Other Agencies and Branches on the Authority to Continue Department of Justice Functions During the Lapse in the Department's Appropriations (19 Op. O.L.C. 337, December 13, 1995), the OFR announces special procedures for agencies transmitting documents for publication in the Federal Register during a lapse in appropriations.

During an appropriations lapse, the OFR remains open to accept and process documents authorized to be published in the Federal Register in the absence of continuing appropriations. An agency wishing to transmit a document to the OFR during an appropriations lapse must attach an exception letter to the document which provides a justification and certifies that publication in the Federal Register is necessary. The OFR will only publish documents submitted during an appropriations lapse that meet an exception to the ADA, with sufficient justification that the document meets the ADA exception as provided by the publishing agency. This may include documents that directly relate to the performance of governmental functions necessary to address imminent threats to the safety of human life or protection of property (the ADA emergency exception) or that meet another exception to the ADA, as well as documents related to funded programs if delaying publication until the end of the appropriations lapse would prevent or significantly damage the execution of funded functions at the agency. It is the responsibility of the agency submitting a document for publication to include an exception letter that provides justification and certifies that the document is authorized under the ADA; the OFR does not provide this justification for the submitting agency. This certification provides OFR with documentation that publication in the Federal Register is a function or service excepted under the ADA.

Executive branch agencies and offices should use the template for the exception letter available on the OFR website at www.archives.gov/federal-register/agencies/shutdown-faqs. Legislative and judicial branch offices may use the template letter as a guide.

Special handling requests should be included in the exception letter. Do not submit two separate letters.

Documents received and scheduled for publication before the appropriations lapse began are not required to meet an ADA exception.

For final rule documents that contain incorporation by reference (IBR), agencies must submit a separate request for IBR approval as per normal procedure, and must include sufficient justification that the rule document meets an exception to the ADA when submitting the IBR request. The OFR will not review an IBR request that does not include a sufficient justification. Requests without a sufficient justification will be held until the appropriations lapse is ended.

The OFR may suspend the regular publication schedule during an appropriations lapse to permit a limited number of excepted personnel to process excepted documents. Agency officials will be informed as to the schedule for filing and publishing individual documents.

The OFR has posted frequently asked questions and the excepted letter template on the following website: www.archives.gov/federal-register/agencies/shutdown-faqs.

Authority: 44 U.S.C. 1502; 1 CFR 2.4 and 5.1.

Liza Davis,
Director of Legal Affairs and Policy, Office of the Federal Register.

[FR Doc. 2026-02066 Filed 1-30-26; 8:45 am]

BILLING CODE 0099-10-P